DEPARTMENT OF THE INTERIOR

National Park Service

Padre Island National Seashore, Corpus Christi, TX

AGENCY: National Park Service, Interior.

ACTION: Notice of Availability of a Plan of Operations, Environmental Assessment, and Floodplains and Wetlands Statement of Findings for a 30-day public review at Padre Island National Seashore, Kleberg and Kenedy Counties, Texas.

SUMMARY: The National Park Service (NPS), in accordance with Section 9.52(b) of Title 36 of the Code of Federal Regulations, Executive Order 11988, Floodplain Management, and Executive Order 11990, Protection of Wetlands has received from BNP Petroleum Corporation a Plan of Operations for drilling and production of the Lemon/Lemon Seed Unit Wells, No. 1-1000S and No. 1-1008S from a surface location 12.5 miles south along the Gulf beach, from the end of Park Road 22, within Padre Island National Seashore. Additionally, the NPS has prepared an Environmental Assessment and Floodplains and Wetlands Statement of Findings for the site of the proposed well.

DATES: The above documents are available for public review and comment for a period of 30 days from the publication date of this notice in the Federal Register.

ADDRESSES: The Plan of Operations, Environmental Assessment, and Floodplain and Wetlands Statement of Findings are available for public review and comment in the Office of the Superintendent, Padre Island National Seashore, 20301 Park Road 22, Corpus Christi, Texas. Copies of the Plan of Operations are available, for a duplication fee, from the Superintendent, Padre Island National Seashore, P.O. Box 181300, Corpus Christi, Texas 78480-1300.

FOR FURTHER INFORMATION CONTACT: Arlene Wimer, Environmental Protection Specialist, Padre Island National Seashore, P.O. Box 181300, Corpus Christi, Texas 78480-1300, Telephone: 361-949-8173 x 224, e-mail at Arlene_Wimer@nps.gov.

SUPPLEMENTARY INFORMATION: If you wish to submit comments about this document within the 30 days; mail them to the post office address provided above, hand-deliver them to the park at the street address provided above, or electronically file them to the e-mail address provided above. Our practice is to make comments, including names and home addresses of responders, available for public review during regular business hours.

Dated: March 4, 2002.
R. Everhart,
Acting Regional Director, Intermountain Region.

[FR Doc. 02-7816 Filed 3-29-02; 8:45 am]

BILLING CODE 4310-70-P